DEPARTMENT OF ENERGY

Federal Energy Regulatory Commission

[Docket No. CP00-190-000]

Reliant Energy Gas Transmission Company; Notice of Request Under Blanket Authorization

April 20, 2000.

Take notice that on April 18, 2000, Reliant Energy Gas Transmission Company (REGT), 1111 Louisiana Street, Houston, Texas 77210, filed a request with the Commission in Docket No. CP00-190-000, pursuant to Sections 157.205 and 157.211 of the Commission's Regulations under the Natural Gas Act (NGA) for authorization to construct, own and operate delivery tap facilities to a new customer located in Arkansas, authorized in blanket certificates issued in Docket Nos. CP82-384-000 and CP82-384-001, all as more fully set forth in the request on file with the Commission and open to public inspection. This filing may be viewed on the web at http://www.ferc.fed.us/online/rims.htm (call 202-208-2222 for assistance).

REGT proposes to construct, own and operate a two-inch delivery tap, four-inch meter station, and electronic flow control equipment which would provide firm deliveries to Acme Brick Company, a new customer, located on REGT's Line B in Johnson County, Arkansas. REGT reports that these transportation deliveries would constitute a by-pass of Arkansas Western Gas Company, a local distribution company.

Any person or the Commission's staff may, within 45 days after the Commission has issued this notice, file pursuant to Rule 214 of the Commission's Procedural Rules (18 CFR 385.214) a motion to intervene or notice of intervention and pursuant to Section 157.205 of the Regulations under the NGA (18 CFR 157.205) a protest to the request. If no protest is filed within the allowed time, the proposed activity shall be deemed to be authorized effective the day after the time allowed for filing a protest. If a protest is filed and not withdrawn within 30 days after the time allowed for filing a protest, the instant request shall be treated as an application for authorization pursuant to Section 7 of the NGA.

Linwood A. Watson, Jr.,
Acting Secretary.

[FR Doc. 00-10331 Filed 4-25-00; 8:45 am]

BILLING CODE 6717-01-M